DEPARTMENT OF DEFENSE

Department of the Navy

Notice of Extension of Comment Period for the Draft Amended Analysis to the Final Environmental Impact Statement for EA-18G “Growler” Airfield Operations at Naval Air Station Whidbey Island Complex

AGENCY: Department of the Navy (DoN), Department of Defense (DoD).

ACTION: Extension of public comment period.

SUMMARY: On March 14, 2025, the Department of the Navy (DoN) published in the Federal Register a Notice of Public Meetings for the Draft Amended Analysis to the Final Environmental Impact Statement for EA-18G Growler Airfield Operations at Naval Air Station Whidbey Island Complex. In addition to announcing its hosting of two in-person public meetings (April 1 and 2, 2025) and one virtual meeting (April 3, 2025), the DoN announced a 45-day public comment period beginning March 14, 2025 and ending April 28, 2025. DoN is now extending the comment period until May 13, 2025 to allow the public additional time to review and submit comments on the Draft Amended Analysis.

DATES: The comment period for the notice published on March 14, 2025 at 90 FR 12155 (FR Doc. 2025-04111) is extended. DoN must receive comments by May 13, 2025 to be considered in the Final Amended Analysis. Comments submitted concerning the Draft Amended Analysis prior to this announcement do not need to be resubmitted.

ADDRESSES: Comments on the Draft Amended Analysis may be provided electronically through the project website: www.nepa.navy.mil/growler/, or by mail to: Naval Facilities Engineering Systems Command Atlantic; Attention: Code EV21JB (Growler Project Manager); 6506 Hampton Boulevard, Norfolk, VA 23508-1278.

FOR FURTHER INFORMATION CONTACT: U.S. Fleet Forces Command, 1562 Mitscher Avenue, Suite 250, Norfolk, VA 23551-2487, Attention: Mr. Theodore Brown, Installations and Environment Public Affairs Officer, 757-836-4427, theodore.c.brown4.civ@us.navy.mil, or visit the project website www.nepa.navy.mil/growler/.

SUPPLEMENTARY INFORMATION: In July 2019, the Navy defended lawsuits in the U.S. District Court for the Western District of Washington challenging the Navy's 2018 Final Environmental Impact Statement (EIS) and 2019 Record of Decision (ROD) for EA-18G Growler Airfield Operations at Naval Air Station (NAS) Whidbey Island Complex. These cases were later consolidated.

In 2022, the Court found the Navy's EIS and ROD violated the National Environmental Policy Act (NEPA) by “failing to disclose the basis for greenhouse gas emissions calculations, failing to quantify the impact of increased operations on classroom learning, failing to take a hard look at species-specific impacts on birds, and failing to give detailed consideration to the El Centro, California, alternative.”

All other claims were dismissed with prejudice. Therefore, the public meetings for the Draft Amended Analysis (held April 1, 2, and 3, 2025) were limited to these four areas identified by the Court. Notice of the availability of the Draft Amended Analysis was distributed to local Tribes, Federal, State, and local agencies, elected officials, and relevant organizations.

Dated: April 18, 2025.
R.A. Kennedy,
Lieutenant Commander, Judge Advocate General's Corps, U.S. Navy, Federal Register Liaison Officer.

[FR Doc. 2025-07032 Filed 4-23-25; 8:45 am]

BILLING CODE 3810-FF-P